DEPARTMENT OF ENERGY

Federal Energy Regulatory Commission

[Project No. 14532-000]

Northwoods Renewables, LLC; Notice of Preliminary Permit Application Accepted for Filing and Soliciting Comments, Motions To Intervene, and Competing Applications

On June 21, 2013, Northwoods Renewables, LLC filed an application for a preliminary permit, pursuant to section 4(f) of the Federal Power Act (FPA), proposing to study the feasibility of the Bethlehem Hydroelectric Project to be located on the Ammonoosuc River, in the town of Bethlehem, Grafton County, New Hampshire. The sole purpose of a preliminary permit, if issued, is to grant the permit holder priority to file a license application during the permit term. A preliminary permit does not authorize the permit holder to perform any land-disturbing activities or otherwise enter upon lands or waters owned by others without the owners' express permission.

The proposed project would consist of: (1) An existing 29-foot-high, 282-foot-long concrete dam that includes a 20-foot-high, 139.5-foot-long spillway with new 3-foot-high flashboards; (2) an existing 1,500-foot-long, 5.5-acre impoundment with a normal water surface elevation of 1140.4 feet National Geodetic Vertical Datum of 1929; (3) an existing sluiceway with a new 8-foot-wide, 10-foot-high sluice gate; (4) a new 4,000-cubic-foot forebay structure with a 35-foot-wide, 10-foot-high trashrack; (5) a new 9-foot-wide, 10-foot-high head gate; (6) a new 8-foot-diameter, 50-foot-long penstock that passes through an existing 25-foot-long gatehouse; (7) a new 25-foot-wide, 25-foot-long powerhouse containing a 140-kilowatt (kW) turbine-generating unit and 260-kW turbine-generating unit for a total installed capacity of 400 kW; (8) a new 25-foot-long excavated tailrace; (9) a new 100 to 200-foot-long, 480 to 600-volt buried transmission line and 35 to 60-foot-long, 19.9-kilovolt aboveground transmission line connecting the powerhouse to the Public Service of New Hampshire's distribution system; and (10) appurtenant facilities. The proposed project would have an estimated average annual generation of 1,480 megawatt-hours.

Applicant Contact: James World, 12 High Street, Lancaster, NH 03584; phone: (802) 463-3230.

FERC Contact: Brandon Cherry; phone: (202) 502-8328.

Deadline for filing comments, motions to intervene, competing applications (without notices of intent), or notices of intent to file competing applications: 60 days from the issuance of this notice. Competing applications and notices of intent must meet the requirements of 18 CFR 4.36. The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14532-000.

More information about this project, including a copy of the application, can be viewed or printed on the “eLibrary” link of Commission's Web site at www.ferc.gov/docs-filing/elibrary.asp. Enter the docket number (P-14532) in the docket number field to access the document. For assistance, contact FERC Online Support.

Dated: October 29, 2013.
Kimberly D. Bose,
Secretary.

[FR Doc. 2013-26452 Filed 11-4-13; 8:45 am]

BILLING CODE 6717-01-P